FEDERAL COMMUNICATIONS COMMISSION

Radio Broadcasting Services; AM or FM Proposals To Change the Community of License

AGENCY: Federal Communications Commission.

ACTION: Notice.

SUMMARY: The following applicants filed AM or FM proposals to change the community of license: CONNOISSEUR MEDIA OF ERIE, LLC, Station NEW, Facility ID 191524, BNPH-20130724ABK, From ERIE, PA, To MINA, NY; CRAWFORD, CHARLES E, Station NEW, Facility ID 191559, BNPH-20130723AEA, From CROWELL, TX, To LUEDERS, TX; CRAWFORD, CHARLES E, Station NEW, Facility ID 191560, BNPH-20130723AEB, From SONORA, TX, To CHRISTOVAL, TX; DAIJ MEDIA, LLC, Station KJOZ, Facility ID 20625, BP-20120731AAA, From CONROE, TX, To BAYTOWN, TX; DALHART RADIO, INC., Station NEW, Facility ID 191569, BNPH-20130724AGO, From LEAKEY, TX, To COMSTOCK, TX; DMC BROADCASTING INC., Station NEW, Facility ID 191511, BNPH-20130724AGJ, From TAOS PUEBLO, NM, To SPRINGER, NM; GALAXY SYRACUSE LICENSEE LLC, Station WKRH, Facility ID 56996, BPH-20130708ABZ, From MINETTO, NY, To FAIR HAVEN, NY; GALAXY SYRACUSE LICENSEE LLC, Station WTKV, Facility ID 24131, BPH-20130708ACD, From OSWEGO, NY, To MINETTO, NY; HISPANIC TARGET MEDIA INC., Station NEW, Facility ID 191516, BNPH-20130724AGP, From SAN JOAQUIN, CA, To KETTLEMAN CITY, CA; HISPANIC TARGET MEDIA INC., Station NEW, Facility ID 191515, BNPH-20130724AGR, From ROSWELL, NM, To CAPITAN, NM; INDIANA COMMUNITY RADIO CORPORATION, Station WBOO, Facility ID 174726, BPED-20130628AII, From MORGANFIELD, KY, To ROSICLARE, IL; JACKMAN HOLDING COMPANY, LLC, Station NEW, Facility ID 191565, BNPH-20130724AGN, From BEAVER, UT, To PARAGONAH, UT; KBI, Station NEW, Facility ID 191545, BNPH-20130724AEB, From PRAIRIE CITY, OR, To ISLAND CITY, OR; KONA COAST RADIO, LLC, Station NEW, Facility ID 191490, BNPH-20130724AGQ, From WHEATLAND, WY, To LINGLE, WY; KXOJ, INC., Station NEW, Facility ID 191580, BNPH-20130625ADA, From HOLDENVILLE, OK, To WAYNE, OK; L. TOPAZ ENTERPRISES, INC., Station NEW, Facility ID 191561, BNPH-20130722AAB, From MONUMENT, OR, To HAINES, OR; MULTI-CULTURAL DIVERSITY RADIO, INC., Station NEW, Facility ID 191574, BNPH-20130708ABP, From TIGERTON, WI, To CAROLINE, WI; POINT FIVE LLC, Station NEW, Facility ID 191523, BNPH-20130724ABX, From MOJAVE, CA, To METTLER, CA; RUDEX BROADCASTING LIMITED CORPORATION, Station KSDT, Facility ID 36830, BP-20130702AAA, From HEMET, CA, To REDLANDS, CA; SYNERGY LAKESHORE LICENSES, LLC, Station WLDN, Facility ID 189561, BPH-20130801AON, From PENTWATER, MI, To LUDINGTON, MI; SYNERGY MEDIA, INC., Station WKLA, Facility ID 10809, BPH-20130801AOK, From LUDINGTON, MI, To THOMPSONVILLE, MI; THE MONTANA RADIO COMPANY, LLC, Station KTRO, Facility ID 183371, BPH-20130625ADB, From ROUNDUP, MT, To STANFORD, MT; THE WORSHIP CENTER OF KINGSVILLE, Station KZTX, Facility ID 174991, BMPED-20130701AAA, From FALFURRIAS, TX, To ENCINO, TX; UNITED BROADCASTING COMPANY, INC, Station KTKK, Facility ID 14890, BP-20130701AAQ, From SANDY, UT, To KEARNS, UT.

DATES: The agency must receive comments on or before November 8, 2013.

ADDRESSES: Federal Communications Commission, 445 Twelfth Street SW., Washington, DC 20554.

FOR FURTHER INFORMATION CONTACT: Tung Bui, 202-418-2700.

SUPPLEMENTARY INFORMATION: The full text of these applications is available for inspection and copying during normal business hours in the Commission's Reference Center, 445 12th Street SW., Washington, DC 20554 or electronically via the Media Bureau's Consolidated Data Base System, http://svartifoss2.fcc.gov/prod/cdbs/pubacc/prod/cdbs_pa.htm. A copy of this application may also be purchased from the Commission's duplicating contractor, Best Copy and Printing, Inc., 445 12th Street SW., Room CY-B402, Washington, DC 20554, telephone 1-800-378-3160 or www.BCPIWEB.com.

Federal Communications Commission.
James D. Bradshaw,
Deputy Chief, Audio Division, Media Bureau.

[FR Doc. 2013-21774 Filed 9-6-13; 8:45 am]

BILLING CODE 6712-01-P